DEPARTMENT OF STATE

[Public Notice: 9667]

Notice of Proposal To Extend the Memorandum of Understanding Between the Government of United States of America and the Government of the Republic of Peru Concerning the Imposition of Import Restrictions on Archaeological Material From the Prehispanic Cultures and Certain Ethnological Material From the Colonial Period of Peru

The Government of the Republic of Peru has informed the Government of the United States of America of its interest in an extension of the Memorandum of Understanding Between the Government of United States of America and the Government of the Republic of Peru Concerning the Imposition of Import Restrictions on Archaeological Material From the Prehispanic Cultures and Certain Ethnological Material From the Colonial Period of Peru (“the MOU”).

Pursuant to the authority vested in the Assistant Secretary of State for Educational and Cultural Affairs, and pursuant to 19 U.S.C. 2602(f)(1), an extension of this MOU is hereby proposed.

A copy of the MOU, the Designated List of restricted categories of material, and related information can be found at the following Web site: http://culturalheritage.state.gov.

Dated: July 27, 2016.
Evan Ryan,
Assistant Secretary, Bureau of Educational and Cultural Affairs, U.S. Department of State.

[FR Doc. 2016-19013 Filed 8-9-16; 8:45 am]

BILLING CODE 4710-05-P